U.S. COMMISSION ON OCEAN POLICY

Public Meeting

AGENCY: U.S. Commission on Ocean Policy.

ACTION: Notice.

SUMMARY: The U.S. Commission on Ocean Policy will hold its first regional meeting, the Commission's third public meeting, to hear and discuss issues of concern to the Southeastern Region of the United States, covering the coastal area from Delaware to Georgia.

DATES: Meetings will be held Tuesday and Wednesday, January 15 and 16, 2002 from 9 a.m. to 5 p.m., both days.

ADDRESSES: The meeting location is the Physician's Auditorium, College of Charleston, 66 George Street, Charleston, SC, 29424.

FOR FURTHER INFORMATION CONTACT: Mr. Terry Schaff, U.S. Commission on Ocean Policy, 1120 20th Street, NW, Washington, DC, 20036, 202-418-3442, tschaff@nsf.gov.

SUPPLEMENTARY INFORMATION: This meeting is being held pursuant to requirements under the Oceans Act of 2000 (Public Law 106-256, section 3(e)(1)(E)). The agenda will include presentations by invited speakers representing local and regional government agencies and non-governmental organizations, comments from the public and any required administrative discussions and executive sessions. Invited speakers and members of the public are requested to submit their statements for the record electronically by January 10, 2002 to the meeting Point of Contact. Additional meeting information, including a draft agenda, will be posted as available on the Commission's web site at http://www.oceancommission.gov.

Dated: December 14, 2001.
Admiral James D. Watkins USN (ret.)
Chairman, U.S. Commission on Ocean Policy.

[FR Doc. 01-31325 Filed 12-19-01; 8:45 am]

BILLING CODE 6820-WM-P